DEPARTMENT OF COMMERCE

International Trade Administration

[A-570-947]

Certain Steel Grating From the People's Republic of China: Rescission of Antidumping Duty Administrative Review; 2012-2013

AGENCY: Enforcement and Compliance, formerly Import Administration, International Trade Administration, Department of Commerce.

SUMMARY: The Department of Commerce (“the Department”) is rescinding the administrative review of the antidumping duty order on certain steel grating from the People's Republic of China (“PRC”) for the period July 1, 2012, through June 30, 2013.

DATES: Effective Date: April 1, 2014.

FOR FURTHER INFORMATION CONTACT: Howard Smith or Jonathan Hill, AD/CVD Operations, Office IV, Enforcement & Compliance, International Trade Administration, Department of Commerce, 14th Street and Constitution Avenue NW, Washington, DC 20230; telephone: (202) 482-5193 or (202) 482-3518, respectively.

SUPPLEMENTARY INFORMATION:

Background

On August 28, 2013, based on a timely request for review by Alabama Metal Industries Corporation and Fisher & Ludlow Inc. (collectively “Petitioners”), the Department published in the Federal Register a notice of initiation of an administrative review of the antidumping duty order on certain steel grating from the PRC covering the period July 1, 2012, through June 30, 2013.¹ The review covers 30 companies: Anping Jinyuan Metal, Anping Jinyuan Metal Co., Ltd., Comtrust Metal & Ware Mesh Products Co., Ltd., Comtrust Metal Wire Mesh Product Factory, Dalian AW Gratings, Dalian AW Gratings, Ltd., Fujian Youxi Best Arts & Crafts Co., Ltd., Guangzhou Webforge, Guangzhou Webforge Grating Co., Ltd., Hebei Jinshi Industrial Metal, Hebei Jinshi Industrial Metal Co., Ltd., Jiashan Qilimei Grating, Jiashan Qilmei Grating Co., Ltd., Kingjoy Building Decorative Materials Co., Ltd., Ningbo Haitian International Co., Ltd., Ningbo Jiulong Machinery Manufacturing Co., Ltd., Ningbo Lihong Steel Grating Co., Ltd., Ningbo Zhenhai Jiulong Electronic Equipment Factory, Shanghai Shenhao Steel Structure Designing, Shanghai Shenhao Steel Structure Designing Co., Ltd., Shanghai DAHE Grating Co., Ltd., Sinosteel Yantai Steel Grating Co., Ltd., Tianchang Flying-Dragon Metallic Products, Tianchang Flying-Dragon Metallic Products Co., Ltd., Qing Auging Mechancial, Xinxing Grating Factory, Yantai Hercules Metal Ltd., Yantai Xinke Steel Structure Co., Ltd., Zhejian Hengzhou Steel Grating, and Zhejian Hengzhou Steel Grating Co., Ltd. On December 12, 2013, Petitioners withdrew their request for an administrative review of the 30 companies listed above.

¹ See Initiation of Antidumping and Countervailing Duty Administrative Reviews and Request for Revocation in Part, 78 FR 53128, 53130 (August 28, 2013).

Rescission of Review

Pursuant to 19 CFR 351.213(d)(1), the Department will rescind an administrative review if the party that requested the review withdraws its request within 90 days of the publication of the notice of initiation of the requested review. As explained in the memorandum from the Assistant Secretary for Enforcement and Compliance, the Department exercised its discretion to toll deadlines for the duration of the closure of the Federal Government from October 1, through October 16, 2013.² Accordingly, all deadlines in this segment of the proceeding have been extended by 16 days. Therefore, Petitioners withdrew their request within the 90-day deadline. No other parties requested an administrative review of the antidumping duty order. As a result, we are rescinding the administrative review of certain steel grating from the PRC for the period July 1, 2012, through June 30, 2013.

² See Memorandum for the Record from Paul Piquado, Assistant Secretary for Enforcement and Compliance, “Deadlines Affected by the Shutdown of the Federal Government,” (October 18, 2013).

Assessment

The Department will instruct U.S. Customs and Border Protection (“CBP”) to assess antidumping duties on all appropriate entries. Because the Department is rescinding this administrative review in its entirety, the entries to which this administrative review pertained shall be assessed antidumping duties at rates equal to the cash deposit of estimated antidumping duties required at the time of entry, or withdrawal from warehouse, for consumption, in accordance with 19 CFR 351.212(c)(1)(i). The Department intends to issue appropriate assessment instructions to CBP 15 days after the publication of this notice.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: March 26, 2014.
Christian Marsh,
Deputy Assistant Secretary for Antidumping and Countervailing Duty Operations.

[FR Doc. 2014-07259 Filed 3-31-14; 8:45 am]

BILLING CODE 3510-DS-P